FEDERAL ELECTION COMMISSION

Sunshine Act Meeting

PREVIOUSLY ANNOUNCED DATE AND TIME: Thursday, May 23, 2002, 10 a.m. meeting open to the public. The following item was continued: Final Audit of Bauer for President 2000, Inc.

PREVIOUSLY ANNOUNCED DATE AND TIME: Thursday, June 6, 2002, Executive Session; this meeting has been rescheduled for Monday, June 3, 2002, at 11 a.m.

PLACE: 999 E Street, NW., Washington, DC.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Tuesday, June 4, 2002 and Wednesday, June 5, 2002 to begin at 9:30 a.m.

PLACE: 999 E Street, NW., Washington, DC (Ninth floor).

STATUS: This hearing will be open to the public.

MATTER BEFORE THE COMMISSION: Soft Money Rules: Notice of Proposed Rulemaking.

PREVIOUSLY ANNOUNCED DATE AND TIME: Thursday, June 6, 2002, meeting open to the public. This meeting has been cancelled.

PERSON TO CONTACT FOR INFORMATION: Mr. Ron Harris, Press Officer, Telephone: (202) 694-1220.

Mary W. Dove,
Secretary of the Commission.

[FR Doc. 02-13741 Filed 5-28-02; 2:51 pm]

BILLING CODE 6715-01-M